DEPARTMENT OF HOMELAND SECURITY

Coast Guard

33 CFR Part 117

[CGD01-06-025]

Drawbridge Operation Regulations; Hutchinson River (Eastchester Creek), New York City, NY

AGENCY: Coast Guard, DHS.

ACTION: Notice of temporary deviation from regulations.

SUMMARY: The Commander, First Coast Guard District, has issued a temporary deviation from the regulation governing the operation of the AMTRAK Pelham Bay railroad bridge, across the Hutchinson River at mile 0.5, at New York City, New York. This deviation allows the bridge to open on a limited daily schedule from March 27, 2006 through April 25, 2006. Vessels that can pass under the bridge without a bridge opening may do so at all times. This deviation is necessary to facilitate scheduled bridge maintenance.

DATES: This deviation is effective from March 27, 2006 through April 25, 2006.

ADDRESSES: Materials referred to in this document are available for inspection or copying at the First Coast Guard District, Bridge Branch Office, One South Street, New York, New York 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The AMTRAK Pelham Bay railroad bridge, across the Hutchinson River at mile 0.5, has a vertical clearance in the closed position of 8 feet at mean high water and 15 feet at mean low water. The existing regulations are listed at 33 CFR 117.5 and 117.793.

The owner of the bridge, National Railroad Passenger Corporation (AMTRAK), requested a temporary deviation to facilitate scheduled electrical bridge repairs. In order to perform the above repairs the bridge must operate on a limited opening schedule.

Under this temporary deviation the AMTRAK Pelham Bay railroad bridge shall operate, from March 27, 2006 through April 25, 2006, as follows:

On Tuesday through Saturday of each week of the effective period of this temporary deviation, the draw shall open on signal only two times during the high tide predicted at Hell Gate, New York, between 6:30 a.m. and 6:30 p.m. The period during which the draw shall open is from 45 minutes before the predicted high tide at Hell Gate to three and one half hours after the predicted high tide.

On each Monday during the effective period of this temporary deviation, the draw shall open on signal only two times during each high tide, from 45 minutes before the predicted high tide at Hell Gate, New York, to three and one half hours after the predicted high tide.

On each Sunday during the effective period of this temporary deviation, the bridge need not open.

Vessels that can pass under the draw without a bridge opening may do so at all times.

In accordance with 33 CFR 117.35(c), this work will be performed with all due speed in order to return the bridge to normal operation as soon as possible. This deviation from the operating regulations is authorized under 33 CFR 117.35.

Dated: March 22, 2006.
Gary Kassof,
Bridge Program Manager, First Coast Guard District.

[FR Doc. 06-3043 Filed 3-29-06; 8:45 am]

BILLING CODE 4910-15-P